DEPARTMENT OF LABOR

Employee Benefits Security Administration

[Application No. D-10269]

Withdrawal of the Notice of Proposed Exemption Involving the Travelers Group Inc. 401(k) Savings Plan (the Plan) Located in New York, NY

In the Federal Register dated December 30, 1996, (61 FR 68794), the Department of Labor (the Department) published a notice of proposed exemption from the prohibited transaction restrictions of the Employee Retirement Income Security Act of 1974 and from certain taxes imposed by the Internal Revenue Code of 1986. The notice of proposed exemption concerned: (1) The in-kind contribution by Travelers Group Inc. (TGI) of certain options (the Stock Option or Stock Options) into the accounts in the Plan of eligible employees of TGI and its subsidiaries and affiliates (the Employees or Employee); (2) the holding of the Stock Options by such accounts; and (3) the exercise of such Stock Options by Employees in order to purchase shares of common stock of TGI.

By letter dated April 29, 2003, Citigroup Inc., (formerly TGI) and its affiliates requested that the application for exemption be withdrawn.

Accordingly, the notice of proposed exemption is hereby withdrawn.

Signed at Washington, DC, this 19th day of May 2003.
Ivan L. Strasfeld,
Director of Exemption Determinations, Employee Benefits Security Administration, Department of Labor.

[FR Doc. 03-12890 Filed 5-21-03; 8:45 am]

BILLING CODE 4510-29-P